DEPARTMENT OF HEALTH AND HUMAN SERVICES

National Institutes of Health

Building Interdisciplinary Research Careers in Women's Health (BIRCWH) Annual Meeting, and the Specialized Centers of Research Excellence (SCORE) Annual Meeting Keynote Address

AGENCY: National Institutes of Health, HHS.

ACTION: Notice.

SUMMARY: The Building Interdisciplinary Research Careers in Women's Health (BIRCWH) Annual Meeting, held virtually December 14, 2020, sponsored by the Office of Research on Women's Health (ORWH), will focus on mentoring young investigators, present their research findings, and celebrate the 20th anniversary of the program. The Specialized Centers of Research Excellence on Sex Differences (SCORE) Annual Meeting keynote address, held virtually on December 16, 2020, sponsored by ORWH, will offer the perspective of an editor of The Lancet on sex differences research and the health of women. Both of these programs are signature programs created by ORWH in partnership with a number of National Institutes of Health (NIH) institutes and centers.

DATES: The BIRCWH Annual Meeting will be held virtually on December 14, 2020, from 10:00 a.m. to 5:00 p.m. EST. The SCORE Annual Meeting keynote address will be held virtually on December 16, 2020, from 10:45 a.m. to 11:30 a.m. EST.

ADDRESSES: The BIRCWH Annual Meeting and the SCORE Annual Meeting keynote address are virtual events. Event information can be found on the ORWH website: https://orwh.od.nih.gov/about/newsroom/events.

FOR FURTHER INFORMATION CONTACT: For information concerning these meetings, see the ORWH website, https://orwh.od.nih.gov/about/newsroom/events, or contact Lamont Williams, Communications Director, Office of Research on Women's Health, 6707 Democracy Boulevard, Suite 400, Bethesda, MD 20817, telephone: 301-402-1770; email: ORWHComms@od.nih.gov.

SUPPLEMENTARY INFORMATION: In accordance with 42 U.S.C. 287d, of the Public Health Service Act, as amended and in keeping with the 30th anniversary of ORWH putting science to work for the health of women across NIH, these meetings offer enlightening virtual presentations on health research, scientific advances on the influence of sex and gender in health and disease, and progress for women in biomedical careers.

Celebrating its 20th year, BIRCWH is an institutional mentored career-development grant program connecting junior faculty, known as BIRCWH Scholars, to senior faculty with shared interest in women's health and sex differences research. The BIRCWH Annual Meeting brings BIRCWH Scholars and faculty together to share research and experiences. The BIRCWH 4th Ruth L. Kirschstein Memorial Lectureship will focus on the importance of and improvements to be made in mentoring young investigators. The meeting will also include presentations on research findings by several leading BIRCWH Scholars. Patricia E. Molina, M.D., Ph.D., Richard Ashman Professor and Head, Department of Physiology, Louisiana State University School of Medicine, will deliver a special Innovation talk to celebrate the 20th anniversary of the BIRCWH program and close the session.

SCORE is the only NIH cooperative agreement program supporting disease-agnostic research on sex differences. Each SCORE program serves as a national resource for translational research, at multiple levels of analysis, to identify the role of biological sex differences in the health of women. At this year's SCORE Annual Meeting, Jocalyn Clark, Ph.D., Executive Editor, The Lancet, will present the keynote address: “Sex Differences Research and the Health of Women: An Editor's Perspective.”

The BIRCWH Annual Meeting and the SCORE Annual Meeting keynote address are free and open to the public.

Date: September 17, 2020.
Lawrence A. Tabak,
Principal Deputy Director, National Institutes of Health.

[FR Doc. 2020-21030 Filed 9-22-20; 8:45 am]

BILLING CODE 4140-01-P